DEPARTMENT OF AGRICULTURE

Forest Service

Oregon Coast Provincial Advisory Committee

AGENCY: Forest Service, USDA.

ACTION: Notice of meeting.

SUMMARY: The Oregon Coast Provincial Advisory Committee will meet in Lincoln City, OR, April 20, 2006. The theme of the meeting is Introduction/Overview/Business Planning. The agenda includes: BLM/FS Stewardship Contracting Briefing, FS ATV National Update, BLM RMP Participation—Role of PAC, BLM 2010, Spotted Owl Recovery/Marbled Murrelet Delisting, Status of the RAC's “2006 topics for Coast PAC”, Role of Coast PAC in 2006, Public Comment and Round Robin.

DATES: The meeting will be held April 20, 2006, beginning at 9 a.m.

ADDRESSES: The meeting will be held at the Surftides Inn, 2945 NW Jetty Ave., Lincoln City, Oregon 97367.

FOR FURTHER INFORMATION CONTACT: Joni Quarnstrom, Public Affairs Specialist, Siuslaw National Forest, 541-750-7075, or write to Siuslaw National Forest Supervisor, P.O. Box 1148, Corvallis, OR 97339.

SUPPLEMENTARY INFORMATION: The meeting is open to the public. Council Discussion is limited to Forest Service/BLM staff and Council Members. Lunch will be on your own. A public input session will be at 11:30 a.m. for fifteen minutes. The meeting is expected to adjourn around 3 p.m.

Dated: April 6, 2006.
H. “Wood” Fine,
Director of Operations.

[FR Doc. 06-3482 Filed 4-11-06; 8:45 am]

BILLING CODE 3410-11-M